ENVIRONMENTAL PROTECTION AGENCY

[EPA-HQ-OECA-2012-0687; FRL-9534-3]

Information Collection Request Submitted to OMB for Review and Approval; Comment Request; NESHAP for Stationary Combustion Turbines (Renewal)

AGENCY: Environmental Protection Agency (EPA).

ACTION: Notice.

SUMMARY: The Environmental Protection Agency has submitted an information collection request (ICR), “NESHAP for Stationary Combustion Turbines (40 CFR Part 63, Subpart YYYY) (Renewal)” (EPA ICR No. 1967.05, OMB Control No. 2060-0540) to the Office of Management and Budget (OMB) for review and approval in accordance with the Paperwork Reduction Act (44 U.S.C. 3501 et seq). This is a proposed extension of the ICR, which is currently approved through September 30, 2013. Public comments were previously requested via the Federal Register (77 FR 63813) on October 17, 2012, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 21, 2013.

ADDRESSES: Submit your comments, referencing Docket ID Number EPA-HQ-OECA-2012-0687, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed either online at www.regulations.gov or in person at the EPA Docket Center, EPA West, Room 3334, 1301 Constitution Ave. NW., Washington, DC. The telephone number for the Docket Center is 202-566-1744. For additional information about EPA's public docket, visit http://www.epa.gov/dockets.

Abstract: The affected entities are subject to the General Provisions of the NESHAP at 40 CFR part 63, subpart A, and any changes, or additions to the Provisions specified at 40 CFR part 63, subpart YYYY.

Owners or operators of the affected facilities must submit an initial notification report, performance tests, and periodic reports and results. Owners or operators are also required to maintain records of the occurrence and duration of any startup, shutdown, or malfunction in the operation of an affected facility, or any period during which the monitoring system is inoperative. Reports are required semiannually at a minimum.

Form Numbers: None.

Respondents/affected entities: Stationary combustion turbines.

Respondent's obligation to respond: Mandatory (63 CFR part 63, subpart YYYY).

Estimated number of respondents: 105 (rounded).

Frequency of response: Initially, annually, and semiannually.

Total estimated burden: 1,338 hours (per year). “Burden” is defined at 5 CFR 1320.3(b).

Total estimated cost: $165,056 (per year), includes $10,750 annualized capital or operation & maintenance costs.

Changes in the Estimates: There is an increase of 903 hours in the total estimated respondent burden compared with the ICR currently approved by OMB. This increase is due to several adjustments, which are stated below:

First, we have revised the number of respondents to make ICR estimates consistent with the economic impact analysis, which contains the most recent information on existing and new sources. Based on the analysis, an average of 96 existing and 8.7 new sources per year will be subject to the standard. By contrast, the most recently approved ICR estimated 22 existing and 9 new sources per year, and did not provide a clear basis for its estimates and underlying assumptions. The increase in labor burden and cost for both respondents and the Agency is primarily due to the revised number of sources, particularly existing sources which accounts for industry growth.

Second, we have revised both respondent and Agency labor burdens and costs so that they accurately reflect the reporting and recordkeeping requirements associated with each subcategory. The previous ICR only reflected burdens attributed to new sources in the gas-fired and oil-fired subcategories, and did not account for any sources in the landfill/digester gas-fired subcategory.

Finally, there is an increase in the capital/startup cost as compared to the previous ICR. This increase is the result of including contractor labor associated with catalyst inlet temperature monitor installation. This labor was presented in the previous ICR as a respondent burden rather than a capital cost. Since the contractor labor applies solely to a capital/startup activity, it should be presented it as a capital/startup cost rather than a respondent burden. We also have updated the labor rates to reflect current private-industry rates.

John Moses,
Director, Collection Strategies Division.

[FR Doc. 2013-17521 Filed 7-19-13; 8:45 am]

BILLING CODE 6560-50-P